ENVIRONMENTAL PROTECTION AGENCY

40 CFR Part 52

[PA 182-4196a; FRL-7255-5]

Approval and Promulgation of Air Quality Implementation Plans; Pennsylvania; Withdrawal of Direct Final Rule; Motor Vehicle Inspection and Maintenance Program—Request for Delay in the Incorporation of On-Board Diagnostics Testing

AGENCY: Environmental Protection Agency (EPA).

ACTION: Withdrawal of direct final rule.

SUMMARY: Due to our receipt of an adverse comment, EPA is withdrawing the direct final rule to approve Pennsylvania?s request for a one-year extension of the federal deadline to commence testing of automotive on-board diagnostic (OBD) systems as part of its motor vehicle inspection and maintenance program. In the direct final rule published on June 6, 2002 (67 FR 38894), EPA stated that if we received adverse public comment by July 8, 2002, the rule would be withdrawn and would not take effect. EPA subsequently received a letter of adverse comment. EPA will address the comments received in a subsequent final action based upon the proposed action also published on June 6, 2002 (67 FR 38924). EPA will not institute a second comment period on this action.

EFFECTIVE DATE: The Direct final rule is withdrawn as of August 5, 2002.

FOR FURTHER INFORMATION CONTACT: Brian Rehn, via mail at: Air Quality Planning and Information Services Branch, Mail Code 3AP21, U.S. Environmental Protection Agency, Region III, 1650 Arch Street, Philadelphia, Pennsylvania 19103; or via telephone at: (215) 814-2176; or via e-mail at: rehn.brian@epa.gov.

List of Subjects in 40 CFR Part 52

Environmental protection, Air pollution control, Carbon monoxide, Hydrocarbons, Nitrogen dioxide, Ozone.

Dated: July 29, 2002.
Thomas C. Voltaggio,
Acting Regional Administrator, Region III.

Accordingly, the addition of §52.2022(f) is withdrawn as of August 5, 2002.

[FR Doc. 02-19693 Filed 8-2-02; 8:45 am]

BILLING CODE 6560-50-P